INTERNATIONAL TRADE COMMISSION

[Investigation No. 337-TA-1121]

Certain Earpiece Devices and Components Thereof; Notice of Correction Concerning Commission Determination Not To Review an Initial Determination Granting a Motion for Leave To Amend the Complaint and Notice of Investigation

AGENCY: U.S. International Trade Commission.

ACTION: Correction of Notice.

SUMMARY: Correction is made to notice 83 FR 61168-6169, which was published on November 28, 2018, to replace all instances of “Ontario, Canada” with “Ontario, California.”

By order of the Commission.
Issued: November 30, 2018.
Lisa Barton,
Secretary to the Commission.

[FR Doc. 2018-26467 Filed 12-4-18; 8:45 am]

BILLING CODE P